DEPARTMENT OF COMMERCE

National Oceanic and Atmospheric Administration

[I.D. 071304C]

Pacific Fishery Management Council; Public Meeting

AGENCY: National Marine Fisheries Service (NMFS), National Oceanic and Atmospheric Administration (NOAA), Commerce.

ACTION: Notice of public meeting.

SUMMARY: The Pacific Fishery Management Council (Council) Ad Hoc Groundfish Fishery Management Plan Environmental Impact Statement Oversight Committee (EIS Oversight Committee) will hold a working meeting, which is open to the public, to develop alternatives for the Pacific Coast Groundfish Essential Fish Habitat (EFH) Environmental Impact Statement.

DATES: The EIS Oversight Committee working meeting will occur Monday, August 16, 2004 from 10 a.m. to 5 p.m., Tuesday, August 17, 2004 from 8 a.m. to 5 p.m., and Wednesday, August 18, 2004 from 8 a.m. to close of business on that day.

ADDRESSES: The meeting will be held in the Pine Room at Embassy Suites Portland Airport Hotel, 7900 NE 82nd Avenue, Portland, OR 97220; telephone: (503) 460-3000

Council address: Pacific Fishery Management Council, 7700 NE Ambassador Place, Suite 200, Portland, OR 97220-1384.

FOR FURTHER INFORMATION CONTACT: Mr. Kit Dahl, NEPA Specialist; telephone: (503) 820-2280.

SUPPLEMENTARY INFORMATION: The purpose of this EIS Oversight Committee meeting is to develop a preliminary range of alternatives to designate EFH for the fish species managed under the Pacific Coast Groundfish Fishery Management Plan and alternatives to mitigate the impacts of fishing on that EFH. The Council will review the range of alternatives and consider adopting them for analysis in an environmental impact statement at their September 13-17, 2004, meeting in San Diego, CA.

Although non-emergency issues not contained in the EIS Oversight Committee meeting agenda may come before the committee for discussion, those issues may not be the subject of formal EIS Oversight Committee action during these meetings. EIS Oversight Committee action will be restricted to those issues specifically listed in this document and to any issues arising after publication of this document requiring emergency action under section 305(c) of the Magnuson-Stevens Fishery Conservation and Management Act, provided the public has been notified of the EIS Oversight Committee's intent to take final action to address the emergency.

Special Accommodations

The meeting is physically accessible to people with disabilities. Requests for sign language interpretation or other auxiliary aids should be directed to Ms. Carolyn Porter at (503)820-2280 at least 5 days prior to the meeting date.

Dated: July 14, 2004.
Alan D. Risenhoover,
Acting Director, Office of Sustainable Fisheries, National Marine Fisheries Service.

[FR Doc. 04-16360 Filed 7-16-04; 8:45 am]

BILLING CODE 3510-22-S